DEPARTMENT OF TRANSPORTATION

Federal Aviation Administration

14 CFR Part 39

[Docket No. FAA-2007-28925; Directorate Identifier 2007-NM-123-AD; Amendment 39-15248; AD 2007-23-02]

RIN 2120-AA64

Airworthiness Directives; Airbus Model A330-200 and -300 Series Airplanes, and Model A340-200 and -300 Series Airplanes

AGENCY: Federal Aviation Administration (FAA), Department of Transportation (DOT).

ACTION: Final rule.

SUMMARY: We are adopting a new airworthiness directive (AD) for the products listed above. This AD results from mandatory continuing airworthiness information (MCAI) originated by an aviation authority of another country to identify and correct an unsafe condition on an aviation product. The MCAI describes the unsafe condition as:

During ground inspection of an A340-311 aircraft, it has been discovered that 5 fasteners were missing between Frame (FR) 18 and FR19 on longitudinal joint at stringer 28RH (right hand).

Further investigations have revealed that the missing fasteners have not been installed in production due to incorrect production instructions.

If not corrected, this situation could affect the structural integrity of the aircraft in the area of stringer 28 between FR18 and FR19 at longitudinal joint.

We are issuing this AD to require actions to correct the unsafe condition on these products.

DATES: This AD becomes effective December 11, 2007.

The Director of the Federal Register approved the incorporation by reference of certain publications listed in this AD as of December 11, 2007.

ADDRESSES: You may examine the AD docket on the Internet at http://www.regulations.gov or in person at the U.S. Department of Transportation, Docket Operations, M-30, West Building Ground Floor, Room W12-140, 1200 New Jersey Avenue, SE., Washington, DC.

FOR FURTHER INFORMATION CONTACT: Tim Backman, Aerospace Engineer, International Branch, ANM-116, FAA, Transport Airplane Directorate, 1601 Lind Avenue, SW., Renton, Washington 98057-3356; telephone (425) 227-2797; fax (425) 227-1149.

SUPPLEMENTARY INFORMATION:

Discussion

We issued a notice of proposed rulemaking (NPRM) to amend 14 CFR part 39 to include an AD that would apply to the specified products. That NPRM was published in the Federal Register on August 16, 2007 (72 FR 45970). That NPRM proposed to correct an unsafe condition for the specified products. The MCAI states:

During ground inspection of an A340-311 aircraft, it has been discovered that 5 fasteners were missing between Frame (FR) 18 and FR19 on longitudinal joint at stringer 28RH (right hand).

Further investigations have revealed that the missing fasteners have not been installed in production due to incorrect production instructions.

If not corrected, this situation could affect the structural integrity of the aircraft in the area of stringer 28 between FR18 and FR19 at longitudinal joint.

In order to re-establish the structural strength of the aircraft, this Airworthiness Directive (AD) renders mandatory the inspection of the longitudinal joint at stringer 28 RH between FR18 and FR19 [for missing fasteners].

For airplanes on which any fastener is missing, the corrective actions include doing a detailed visual inspection for cracking of the adjacent fastener area from the outside, without removing the fasteners; and if no crack is found, doing a rotating probe inspection for cracks of the adjacent fastener holes after removing the fasteners, and replacing any missing fastener. The corrective actions also include contacting Airbus for repair instructions and repair if fasteners are not at nominal diameter or if any crack is found. You may obtain further information by examining the MCAI in the AD docket.

Comments

We gave the public the opportunity to participate in developing this AD. We received no comments on the NPRM or on the determination of the cost to the public.

Conclusion

We reviewed the available data and determined that air safety and the public interest require adopting the AD as proposed.

Differences Between This AD and the MCAI or Service Information

We have reviewed the MCAI and related service information and, in general, agree with their substance. But we might have found it necessary to use different words from those in the MCAI to ensure the AD is clear for U.S. operators and is enforceable. In making these changes, we do not intend to differ substantively from the information provided in the MCAI and related service information.

We might also have required different actions in this AD from those in the MCAI in order to follow our FAA policies. Any such differences are highlighted in a NOTE within the AD.

Costs of Compliance

We estimate that this AD will affect about 9 products of U.S. registry. We also estimate that it will take about 4 work-hours per product to comply with the basic requirements of this AD. The average labor rate is $80 per work-hour. Based on these figures, we estimate the cost of this AD to the U.S. operators to be $2,880, or $320 per product.

Authority for This Rulemaking

Title 49 of the United States Code specifies the FAA's authority to issue rules on aviation safety. Subtitle I, section 106, describes the authority of the FAA Administrator. “Subtitle VII: Aviation Programs,” describes in more detail the scope of the Agency's authority.

We are issuing this rulemaking under the authority described in “Subtitle VII, Part A, Subpart III, Section 44701: General requirements.” Under that section, Congress charges the FAA with promoting safe flight of civil aircraft in air commerce by prescribing regulations for practices, methods, and procedures the Administrator finds necessary for safety in air commerce. This regulation is within the scope of that authority because it addresses an unsafe condition that is likely to exist or develop on products identified in this rulemaking action.

Regulatory Findings

We determined that this AD will not have federalism implications under Executive Order 13132. This AD will not have a substantial direct effect on the States, on the relationship between the national government and the States, or on the distribution of power and responsibilities among the various levels of government.

For the reasons discussed above, I certify this AD:

1. Is not a “significant regulatory action” under Executive Order 12866;

2. Is not a “significant rule” under the DOT Regulatory Policies and Procedures (44 FR 11034, February 26, 1979); and

3. Will not have a significant economic impact, positive or negative, on a substantial number of small entities under the criteria of the Regulatory Flexibility Act.

We prepared a regulatory evaluation of the estimated costs to comply with this AD and placed it in the AD docket.

Examining the AD Docket

You may examine the AD docket on the Internet at http://www.regulations.gov; or in person at the Docket Operations office between 9 a.m. and 5 p.m., Monday through Friday, except Federal holidays. The AD docket contains the NPRM, the regulatory evaluation, any comments received, and other information. The street address for the Docket Operations office (telephone (800) 647-5527) is in the ADDRESSES section. Comments will be available in the AD docket shortly after receipt.

List of Subjects in 14 CFR Part 39

Air transportation, Aircraft, Aviation safety, Incorporation by reference, Safety.

Adoption of the Amendment

Accordingly, under the authority delegated to me by the Administrator, the FAA amends 14 CFR part 39 as follows:

PART 39—AIRWORTHINESS DIRECTIVES

1. The authority citation for part 39 continues to read as follows:

Authority: 49 U.S.C. 106(g), 40113, 44701.

§ 39.13 [Amended]

2. The FAA amends § 39.13 by adding the following new AD:

2007-23-02 Airbus: Amendment 39-15248. Docket No. FAA-2007-28925; Directorate Identifier 2007-NM-123-AD.

Effective Date

(a) This airworthiness directive (AD) becomes effective December 11, 2007.

Affected ADs

(b) None.

Applicability

(c) This AD applies to Airbus Model A330-200 and -300 series airplanes and Model A340-200 and -300 series airplanes; certificated in any category; all manufacturer's serial numbers (MSN) up to MSN 0402 included, except MSN 051.

Subject

(d) Air Transport Association (ATA) of America Code 53: Fuselage.

Reason

(e) The mandatory continuing airworthiness information (MCAI) states:

During ground inspection of an A340-311 aircraft, it has been discovered that 5 fasteners were missing between Frame (FR) 18 and FR19 on longitudinal joint at stringer 28RH (right hand).

Further investigations have revealed that the missing fasteners have not been installed in production due to incorrect production instructions.

If not corrected, this situation could affect the structural integrity of the aircraft in the area of stringer 28 between FR18 and FR19 at longitudinal joint.

In order to re-establish the structural strength of the aircraft, this Airworthiness Directive (AD) renders mandatory the inspection of the longitudinal joint at stringer 28 RH between FR18 and FR19 [for missing fasteners].

For airplanes on which any fastener is missing, the corrective actions include doing a detailed visual inspection for cracking of the adjacent fastener area from the outside, without removing the fasteners; and if no crack is found, doing a rotating probe inspection for cracks of the adjacent fastener holes after removing the fasteners, and replacing any missing fastener. The corrective actions also include contacting Airbus for repair instructions and repair if fasteners are not at nominal diameter or if any crack is found.

Actions and Compliance

(f) Before the accumulation of 14,000 flight cycles from the first flight of the aircraft, or within 1,500 flight cycles following the effective date of this AD, whichever occurs later, unless already done, do the following actions: Perform a detailed visual inspection of the longitudinal joint at stringer 28 RH between FR18 and FR19 for missing fasteners, and do all applicable corrective actions before further flight, in accordance with the instructions defined in Airbus Service Bulletin A330-53-3170 or A340-53-4175, both dated March 27, 2007.

FAA AD Differences

Note: This AD differs from the MCAI and/or service information as follows: No differences.

Other FAA AD Provisions

(g) The following provisions also apply to this AD:

(1) Alternative Methods of Compliance (AMOCs): The Manager, International Branch, ANM-116, FAA, has the authority to approve AMOCs for this AD, if requested using the procedures found in 14 CFR 39.19. Send information to ATTN: Tim Backman, Aerospace Engineer, International Branch, ANM-116, FAA, Transport Airplane Directorate, 1601 Lind Avenue, SW., Renton, Washington 98057-3356; telephone (425) 227-2797; fax (425) 227-1149. Before using any approved AMOC on any airplane to which the AMOC applies, notify your appropriate principal inspector (PI) in the FAA Flight Standards District Office (FSDO), or lacking a PI, your local FSDO.

(2) Airworthy Product: For any requirement in this AD to obtain corrective actions from a manufacturer or other source, use these actions if they are FAA-approved. Corrective actions are considered FAA-approved if they are approved by the State of Design Authority (or their delegated agent). You are required to assure the product is airworthy before it is returned to service.

(3) Reporting Requirements: For any reporting requirement in this AD, under the provisions of the Paperwork Reduction Act, the Office of Management and Budget (OMB) has approved the information collection requirements and has assigned OMB Control Number 2120-0056.

Related Information

(h) Refer to MCAI European Aviation Safety Agency Airworthiness Directive 2007-0125, dated May 4, 2007, and Airbus Service Bulletins A330-53-3170 and A340-53-4175, both dated March 27, 2007, for related information.

Material Incorporated by Reference

(i) You must use the service information specified in Table 1 of this AD to do the actions required by this AD, unless the AD specifies otherwise.

(1) The Director of the Federal Register approved the incorporation by reference of this service information under 5 U.S.C. 552(a) and 1 CFR part 51.

(2) For service information identified in this AD, contact Airbus, 1 Rond Point Maurice Bellonte, 31707 Blagnac Cedex, France.

(3) You may review copies at the FAA, Transport Airplane Directorate, 1601 Lind Avenue, SW., Renton, Washington; or at the National Archives and Records Administration (NARA). For information on the availability of this material at NARA, call (202) 741-6030, or go to: http://www.archives.gov/federal-register/cfr/ibr-locations.html.

Table 1.—Material Incorporated by Reference
Airbus Service Bulletin | Date
A330-53-3170, excluding Appendix 01 | March 27, 2007.
A340-53-4175, excluding Appendix 01 | March 27, 2007.

Issued in Renton, Washington, on October 27, 2007.
Stephen P. Boyd,
Assistant Manager, Transport Airplane Directorate, Aircraft Certification Service.

[FR Doc. E7-21686 Filed 11-5-07; 8:45 am]

BILLING CODE 4910-13-P